DEPARTMENT OF LABOR

Employment and Training Administration

[TA-W-50,260]

Motorola, Incorporated, Semiconductor Products Sector,Bipolar Manufacturing Center, Mesa, AZ; Notice of Termination of Certification

This notice terminates the Certification Regarding Eligibility to Apply for Worker Adjustment Assistance issued by the Department on April 25, 2003 for all workers of Motorola, Inc., Semiconductor Products Sector, Bipolar Manufacturing Center, Mesa, Arizona. The notice was published in the Federal Register on May 9, 2003 (FR 68 25061).

The Department, at the request of the State Agency, reviewed this certification for workers of the aforementioned group.

The certification review revealed that signatories of the petition were not among the certified worker group mentioned above, but were instead part of facilities employees, charged with maintaining plant operations. The facilities or “Site Services” employees are eligible for NAFTA Transitional Adjustment Assistance benefits under NAFTA-6506 as amended May 16, 2003 to include these workers.

Since the workers of Bipolar Manufacturing Center are not represented by all of the petitioners, the TA-W-50,260 investigation was conducted erroneously and the certification is thus invalid. The Bipolar Manufacturing Center worker group continues to be eligible to apply for benefits of the NAFTA-6505 Transitional Adjustment Assistance certification issued on September 24, 2002 and in effect until September 24, 2004.

The certification issued under investigation TA-W-50,260 has been terminated.

Signed at Washington, DC this 27th day of June 2003.
Richard Church,
Certifying Officer, Division of Trade Adjustment Assistance.

[FR Doc. 03-17445 Filed 7-9-03; 8:45 am]

BILLING CODE 4510-30-P